DEPARTMENT OF VETERANS AFFAIRS

[OMB Control No. 2900-0455]

Agency Information Collection Activities Under OMB Review

AGENCY: Veterans Benefits Administration, Department of Veterans Affairs

ACTION: Notice.

SUMMARY: In compliance with the Paperwork Reduction Act (PRA) of 1995 (44 U.S.C., 3501 et seq.), this notice announces that the Veterans Benefits Administration, Department of Veterans Affairs, has submitted the collection of information abstracted below to the Office of Management and Budget (OMB) for review and comment. The PRA submission describes the nature of the information collection and its expected cost and burden; it includes the actual data collection instrument.

DATES: Comments must be submitted on or before September 4, 2001.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail to: denise.mclamb@mail.va.gov. Please refer to “OMB Control No. 2900-0455” in any correspondence.

SUPPLEMENTARY INFORMATION: Title: Equal Opportunity Compliance Review Report, VA Form 20-8734 and Supplement to Equal Opportunity Compliance Review Report, VA Form 20-8734a.

OMB Control Number: 2900-0455.

Type of Review: Reinstatement, without change, of a previously approved collection for which approval has expired.

Abstract: Executive Order 12250, Leadership and Coordination of Nondiscrimination Laws, delegated authority to the Attorney General to coordinate the implementation and enforcement by Executive agencies of various equal opportunity laws that prohibit discrimination in programs and activities that receive Federal financial assistance. Government-wide guidelines issued by the Department of Justice (DOJ) in 29 CFR 42.406 instruct funding agencies to “provide for the collection of data and information from applicants for and recipients of Federal assistance sufficient to permit effective enforcement of Title VI.” Executive Order 12250 extended the delegation to cover Title IX of the Education Amendments of 1972, and Section 504 of the Rehabilitation Act of 1973, as amended.

VA's regulation that effectuates external civil rights requirements is contained in 38 CFR, part 18. The regulation provides that the responsible agency official or designee shall, from time to time, review the practices of recipients to determine whether they are complying with the equal opportunity provisions. VA Form 20-8734 is used to gather information from post-secondary proprietary schools below college level. The information is used to assure that VA-funded programs are in compliance with equal opportunity laws. VA Form 20-8734a is used to gather information from students and instructors at post-secondary proprietary schools below college level. The information is used to assure that participants have equal access to equal treatment in VA-funded programs.

The forms are used by Education Compliance Survey Specialists in VA field stations during regularly scheduled educational compliance survey visits, as well as during investigations of equal opportunity complaints, to identify areas which may indicate whether there is disparate treatment of members of protected groups. The information obtained on these forms is analyzed and maintained on file at the regional office. If this information were not collected, VA would be unable to carry out the civil rights enforcement responsibilities established in the DOJ's guidelines and VA's regulations.

An agency may not conduct or sponsor, and a person is not required to respond to a collection of information unless it displays a currently valid OMB control number. The Federal Register Notice with a 60-day comment period soliciting comments on this collection of information was published on April 11, 2001, at pages 18851—18852.

Affected Public: Business or other for profit.

Estimated Annual Burden and Average Burden Per Respondent: Based on past experience, VBA estimates that 76 interviews will be conducted with recipients using VA Form 20-8734 at an average of 1 hour and 45 minutes per interview (133 hours). This includes one hour for an interview with the principal facility official, plus 45 minutes for reviewing records and reports and touring the facility. It is also estimated that 76 interviews will be conducted with students using VA Form 20-8734a at an average of 30 minutes per interview (38 hours) and with instructors at an average of 30 minutes per interview (38 hours) with a total of 76 hours. Interviews are also conducted with 76 students without instructors at an average time of 30 minutes.

VBA estimates that it will take 1 hour to conduct an interview with the recipients (76 hours) and 30 minutes with the instructors (38 hours). The total number of hours for interviewing recipients and instructors is estimated at 114.

Frequency of Response: On occasion.

Estimated Number of Respondents: 228.

Send comments and recommendations concerning any aspect of the information collection to VA's OMB Desk Officer, OMB Human Resources and Housing Branch, New Executive Office Building, Room 10235, Washington, DC 20503 (202) 395-7316. Please refer to “OMB Control No. 2900-0455” in any correspondence.

Dated: July 12, 2001.
By direction of the Secretary.
Donald L. Neilson,
Director, Information Management Service.

[FR Doc. 01-19296 Filed 8-1-01; 8:45 am]

BILLING CODE 8320-01-P